DEPARTMENT OF STATE

[Public Notice 6418]

United States-Egypt Science and Technology Joint Board; Public Announcement of a Science and Technology Program for Competitive Grants To Support International, Collaborative Projects in Science and Technology Between U.S. and Egyptian Cooperators

AGENCY: Department of State.

ACTION: Notice.

DATES: Effective Date: September 11, 2008.

FOR FURTHER INFORMATION CONTACT: Nancy Ahson, PhD, Program Administrator, U.S.-Egypt Science and Technology Grants Program, USAID/Cairo, Unit 64902, Box 5, APO AE 09839-4902; phone: 011-(20-2) 2522-6887; fax: 011-(20-2) 2522-7041; E-mail: stfund@usaid.gov.

The 2008 Program Announcement, including proposal guidelines for Competitive Grants to Support International, Collaborative Projects, will be available starting September 11, 2008 on the Joint Board Web site: http://cairo.usembassy.gov/usegypt/grants.htm.

SUPPLEMENTARY INFORMATION:

Authority: This program is established under 22 U.S.C. 2656d and the Agreement for Scientific and Technological Cooperation between the Government of the United States of America and the Government of the Arab Republic of Egypt.

A solicitation for this program will begin September 11, 2008. This program will provide modest grants for successfully competitive proposals for bi-national collaborative projects and other activities submitted by U.S. and Egyptian experts. Projects must help the United States and Egypt utilize science and apply technology by providing opportunities to exchange ideas, information, skills, and techniques, and to collaborate on scientific and technological endeavors of mutual interest and benefit. Proposals which fully meet the submission requirements as outlined in the Program Announcement will receive peer reviews. Proposals considered for funding in fiscal year 2009 must be postmarked by November 15, 2008.

FOR FURTHER INFORMATION CONTACT: Please contact Chair of U.S.-Egypt S&T Joint Board, William Lawrence, Office of Science and Technology Cooperation, Bureau of Oceans, Environment and Science, U.S. Department of State at (202) 663-2619 or e-mail: LawrenceWA@state.gov.

Dated: October 23, 2008.
Robert S. Senseney,
Acting Director, Office of Science and Technology Cooperation, Bureau of Oceans, Environment and Science, Department of State.

[FR Doc. E8-25930 Filed 10-29-08; 8:45 am]

BILLING CODE 4710-09-P